DEPARTMENT OF JUSTICE

Notice of Lodging of Amended Consent Decree Under the Clean Air Act

In accordance with 28 CFR 50.7, notice is hereby given that on February 9, 2005, a proposed Consent Decree in United States v. Jewel Food Stores, Inc., Civil Action No. 05C-0809, was lodged with the United States District Court for the Northern District of Illinois.

In a Complaint filed simultaneously with the lodging of the proposed Consent Decree, the United States sought injunctive relief and civil penalties for violations of the commercial refrigerant repair, recordkeeping, and reporting regulations at 40 CFR 82.152-82.166 (Recycling and Emission Reduction) promulgated by the Environmental Protection Agency (“EPA”) under Subchapter VI of the Act (Stratospheric Ozone Protection), 42 U.S.C. 7671-7671q, at some or all of the 194 Jewel stores listed in Appendices A, B, and C to the Consent Decree, which are in or near Chicago, Illinois. In the proposed Consent Decree, Jewel agrees to (1) install hydroflurocarbon (HFC or non-ozone depleting refrigerants) refrigeration systems in any new stores it opens in the Chicago Metropolitan Area after the effective date of the settlement; (2) implement a recordkeeping refrigerant management system directed at compliance with the regulations governing ozone-depleting refrigerants; (3) convert or retire any unit that uses a regulated refrigerant to a non-ozone depleting refrigerant, if that unit has more than 3 leaks in one year that leak at above an annualized rate of 35%; (4) convert either 75% of all scheduled “major remodels” (those remodels exceeding $2.5 million in costs), or 25 of its stores, whichever is greater, to use a non-ozone depleting refrigerant by the end of the year 2007; (5) retrofit all of its current chloroflurocarbons (CFCs) and HCFC refrigeration systems to non-ozone depleting refrigerants at twelve additional stores specified in the Consent Decree within three years from the date of entry of the proposed Decree; and (6) pay a civil penalty of $100,000 for its past violations.

The Department of Justice will receive comments relating to the proposed Consent Decree for a period of thirty (30) days from the date of this publication. Comments should be addressed to the Assistant Attorney General, Environment and Natural Resources Division, PO Box 7611, U.S. Department of Justice, Washington, D.C. 20044-7611, and should refer to: United States v. Jewel Food Stores, Inc., D.J. Ref. 90-5-2-1-08098.

The Consent Decree may be examined at the Office of the United States Attorney for the Northern District of Illinois, 219 South Dearborn Street, Chicago, Illinois 60604, and at U.S. EPA Region 5, 77 West Jackson Blvd., Chicago, IL 60604. During the public comment period the proposed Consent Decree may also be examined on the following Department of Justice, Web site, http://www.usdoj.gov/enrd/open.html. A copy of the proposed Consent Decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.50 (25 cents per page reproduction cost) payable to the U.S. Treasury.

William D. Brighton,
Assistant Chief, Environmental Enforcement Section, Environment and Natural Resources, Division.

[FR Doc. 05-3597 Filed 2-23-05; 8:45 am]

BILLING CODE 4410-15-M